ENVIRONMENTAL PROTECTION AGENCY

[FRL-9919-16-OA]

Notification of a Public Meeting of the Science Advisory Board, Lake Erie Phosphorus Objectives Review Panel

AGENCY: Environmental Protection Agency.

ACTION: Notice.

SUMMARY: The Environmental Protection Agency (EPA) Science Advisory Board (SAB) Staff Office announces a meeting of the Lake Erie Phosphorus Objectives Review Panel. The SAB will conduct a consultation to develop advice on the ensemble modeling approach EPA is using to develop preliminary bi-national phosphorous objectives, loading targets and allocations for the nearshore and offshore waters for Lake Erie. The meeting will be held in Chicago, Illinois.

DATES: The Meeting will be held on December 10, 2014, from 8:00 a.m. to 4:30 p.m. (Central Time).

ADDRESSES: The public face-to-face meeting will be held at the Ralph H. Metcalfe Federal Building, Lake Michigan Room (12th floor), 77 West Jackson Boulevard, Chicago, Illinois 60603.

FOR FURTHER INFORMATION CONTACT: Any member of the public who wants further information concerning this public meeting may contact Mr. Thomas Carpenter, Designated Federal Officer (DFO) for the Lake Erie Phosphorus Review Panel, by telephone or at (202) 564-4885 or via email at carpenter.thomas@epa.gov. General information concerning the EPA SAB can be found at http://www.epa.gov/sab.

SUPPLEMENTARY INFORMATION:

The SAB was established pursuant to the Environmental Research, Development, and Demonstration Authorization Act (ERDDAA), codified at 42 U.S.C. 4365, to provide independent scientific and technical advice to the Administrator on the technical basis for Agency positions and regulations. The SAB is a Federal Advisory Committee chartered under the Federal Advisory Committee Act (FACA), 5 U.S.C., App. 2. The SAB and its panels comply with the provisions of FACA and all appropriate SAB Staff Office procedural policies. Pursuant to FACA and EPA policy, notice is hereby given that the SAB Lake Erie Phosphorus Objectives Review Panel will hold a public face-to-face meeting. The purpose of the meeting is to conduct a consultation. In a consultation, panels develop advice on technical questions to the agency on projects that are in the early stages before EPA begins substantive work on the project. The SAB Panel will provide advice through the chartered SAB on the ensemble modeling approach the EPA is using to develop preliminary bi-national phosphorous objectives, loading targets and allocations for the nearshore and offshore waters to achieve the Lake Ecosystem Objectives for Lake Erie.

Background: EPA Region 5 is co-leading a binational workgroup to develop and implement the Nutrients Annex (“Annex 4”) of the 2012 Great Lakes Water Quality Agreement (GLWQA) in accordance with Article 3(b)(i) of the GLWQA. Under Annex 4, the United States and Canada are charged with establishing binational Substance Objectives for phosphorus concentrations, loading targets and allocations for the nearshore and offshore waters of Lake Erie by February 2016. The general approach is to use an ensemble of Lake Erie ecosystem models to compute appropriate load-response relationships for eutrophication response indicators of concern. EPA Region 5 requested an SAB consultation (i.e., early advice) on the appropriateness of modeling approaches to meet the GLWQA Lake Ecosystem Objectives. EPA also requested a subsequent review of the modeled phosphorus targets and loads to obtain advice on (1) whether the process used to develop targets was appropriate to meet the Lake Ecosystem Objectives as defined in the GLWQA and (2) whether the modeled results reflect the best available information on the phosphorous sources and trophic status of Lake Erie. The SAB Staff Office anticipates that the Lake Erie Phosphorus Objectives Review Panel will conduct the subsequent review in 2015.

For technical information concerning this effort under the GLWQA Annex 4 please contact Ms. Santina Wortman, Water Division, US EPA Region 5, 77 West Jackson Boulevard (WW-16J), Chicago, Illinois 60604, phone (312) 353-8319.

Availability of Meeting Materials: Prior to the meeting, the review documents, agenda and other materials will be accessible through the calendar link on the blue navigation bar at http://www.epa.gov/sab/. Materials may also be accessed at the following SAB Web page http://yosemite.epa.gov/sab/sabproduct.nsf/fedrgstractivites/GLWQA?OpenDocument.

Procedures for Providing Public Input: Public comment for consideration by EPA's federal advisory committees and panels has a different purpose from public comment provided to EPA program offices. Therefore, the process for submitting comments to a federal advisory committee is different from the process used to submit comments to an EPA program office. Federal advisory committees and panels, including scientific advisory committees, provide independent advice to the EPA. Interested members of the public may submit relevant information on the topic of this advisory activity, and/or the group conducting the activity, for the SAB to consider during the advisory process. Input from the public to the SAB will have the most impact if it provides specific scientific or technical information or analysis for SAB committees and panels to consider or if it relates to the clarity or accuracy of the technical information. Members of the public wishing to provide comment should contact the DFO directly. Oral Statements: In general, individuals or groups requesting an oral presentation at the face-to-face meeting will be limited to five minutes. Interested parties wishing to provide oral comments should contact Mr. Thomas Carpenter (preferably via email) at the contact information noted above by December 2, 2014 to be placed on the list of public speakers for the meeting. Written Statements: Written statements will be accepted throughout the advisory process; however, for timely consideration by Panel members, statements should be supplied to the DFO via email at the contact information noted above at least one week prior to a public meeting. Written statements should be supplied in one of the following electronic formats: Adobe Acrobat PDF, MS Word, MS PowerPoint, or Rich Text files in IBM-PC/Windows 98/2000/XP format. It is the SAB Staff Office general policy to post written comments on the Web page for the advisory meeting or teleconference. Submitters are requested to provide an unsigned version of each document because the SAB Staff Office does not publish documents with signatures on its Web sites. Members of the public should be aware that their personal contact information, if included in any written comments, may be posted to the SAB Web site. Copyrighted material will not be posted without explicit permission of the copyright holder.

Accessibility: For information on access or services for individuals with disabilities, please contact Mr. Thomas Carpenter at (202) 564-4885 or carpenter.thomas@epa.gov. To request accommodation of a disability, please contact Mr. Carpenter preferably at least ten days prior to the meeting to give EPA as much time as possible to process your request.

Dated: November 5, 2014.
Thomas H. Brennan,
Deputy Director, EPA Science Advisory Board Staff Office.

[FR Doc. 2014-27115 Filed 11-14-14; 8:45 am]

BILLING CODE 6560-50-P